DEPARTMENT OF COMMERCE

National Oceanic and Atmospheric Administration

50 CFR Part 635

[I.D. 030405B]

Atlantic Highly Migratory Species; Bluefin Tuna Fisheries

AGENCY: National Marine Fisheries Service (NMFS), National Oceanic and Atmospheric Administration (NOAA), Commerce.

ACTION: Closure.

SUMMARY: NMFS has determined that the available Angling category Atlantic bluefin tuna (BFT) quota for the 2004 fishing year (June 1, 2004 May 31, 2005) is projected to be reached by March 11, 2005. Therefore, the Angling category BFT fishery will close, coastwide, effective March 11, 2005. This action is being taken to prevent overharvest of the adjusted Angling category quota of 299.6 metric tons (mt).

DATES: Effective 11:30 p.m., local time, March 11, 2005, through May 31, 2005.

FOR FURTHER INFORMATION CONTACT: HMS Management Division at 978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. Section 635.27 subdivides the U.S. BFT quota recommended by the International Commission for the Conservation of Atlantic Tunas among the various domestic fishing categories and are specified annually under 50 CFR 635.23(b) and 635.27(a).

Angling Category Closure

NMFS is required, under 50 CFR 635.28 (a)(1), to file with the Office of the Federal Register for publication, notification of closure when a BFT quota is reached, or is projected to be reached. On and after the effective date and time of such closure notification, for the remainder of the fishing year, or for a specified period as indicated in the notification, fishing for, retaining, possessing, or landing BFT under that quota category is prohibited until the opening of the subsequent quota period, or until such date as specified in the notification.

The 2004 final initial BFT quota specifications issued pursuant to 635.27, set an Angling category quota of 76.5 mt to be harvested from the regulatory area during the 2004 fishing year (70 FR 10896, March 7, 2005). On December 10, 2004, NMFS transferred a total of 223.1 mt from the General category to the Angling category establishing an adjusted Angling category BFT quota of 299.6 mt for the 2004 fishing year (69 FR 71732). Based on the available Angling category quota and preliminary information regarding recreational BFT landings for the 2004 fishing year, NMFS projects that the available Angling category quota will be reached by March 11, 2005. Therefore, fishing for, retaining, possessing, or landing BFT by persons aboard vessels permitted in the Atlantic Highly Migratory Species (HMS) Angling, and HMS Charter/Headboat categories, must cease at 11:30 p.m. local time March 11, 2005, in all areas. The intent of this closure is to prevent overharvest of the available quota established for the Angling category. Atlantic HMS Angling and HMS Charter/Headboat category permit holders may tag and release BFT of all sizes while the Angling quota category is closed, subject to the requirements of the tag-and-release program at § 635.26.

Classification

The Assistant Administrator for Fisheries, NOAA (AA), finds that it is impracticable and contrary to the public interest to provide prior notice of, and an opportunity for public comment on, this action. Based on the available Angling category quota for the 2004 fishing year and the most recent information regarding recreational BFT landings, this closure is necessary to prevent overharvest of the adjusted Angling category quota.

This fishery is currently underway and delaying this action would be contrary to the public interest as it will result in additional recreational BFT landings, potentially contributing to an overharvest of the adjusted Angling category quota. Therefore, the AA finds good cause under 5 U.S.C. 553(b)(B) to waive prior notice and the opportunity for public comment. For all of the above reasons, there is good cause under 5 U.S.C. 553(d) to waive the delay in effectiveness of this action.

NMFS provides notification of closures by publishing the closure notice in the Federal Register, faxing notification to individuals on the HMS FAX Network and know fishery representatives, announcing the notice on the Atlantic Tunas Information Lines, posting the closure notice on www.nmfspermits.com, and announcing the notice over the NOAA Weather radio channel.

This action is being taken under 50 CFR 635.23(a)(4) and is exempt from review under Executive Order 12866.

Authority: 16 U.S.C. 971 et seq. and 1801 et seq.

Dated: March 7, 2005.
Alan D. Risenhoover
Acting Director, Office of Sustainable Fisheries, National Marine Fisheries Service.

[FR Doc. 05-4832 Filed 3-8-05; 12:58 pm]

BILLING CODE 3510-22-S